DEPARTMENT OF THE INTERIOR

Bureau of Indian Affairs

25 CFR Part 2

[223A2100DD/AAKC001030/A0A501010.999900]

Notice of Consultations on Appeals From Administrative Actions

AGENCY: Bureau of Indian Affairs, Interior.

ACTION: Notification of Tribal consultation sessions.

SUMMARY: Indian Affairs will conduct consultation sessions with federally recognized Tribes to obtain oral and written comments concerning appeals from administrative actions.

DATES: Please see the SUPPLEMENTARY INFORMATION section of this notice for dates of the sessions. Tribes are also invited to submit written input by 11:59 p.m. Eastern Time, Thursday, March 24, 2022.

ADDRESSES:

Consultations: The Department's consultations will be held via Zoom and telephone. Please see Tribal Consultation and Registration under the SUPPLEMENTARY INFORMATION section of this notice for registration links.

Written comments: Tribes are also invited to submit written input to consultation@bia.gov, with the subject line “Appeals from Administrative Actions.”

FOR FURTHER INFORMATION CONTACT: Joaquin Gallegos, Special Assistant, Office of the Assistant Secretary—Indian Affairs, email: joaquin_gallegos@ios.doi.gov; telephone: (202) 208-7163 or 800-877-8339 (TTY).

SUPPLEMENTARY INFORMATION: The Bureau of Indian Affairs (BIA) is proposing to update its regulations governing administrative appeals of decisions issued by Indian Affairs officials. This proposed rule, among other things, aims to: Reflect changes in Indian Affairs organization that have occurred in the 30 years since the regulations were last updated; clarify how to administratively appeal actions from each Indian Affairs official; allow for more expedited reviews of requests to compel action by an Indian Affairs official; and add provisions to allow for administrative appeals of Statements of Performance issued by the Bureau of Trust Funds Administration. Additional information may be found at https://www.bia.gov/tribal-consultation/25-cfr-part-2-administrative-appeals.

Tribal Consultation and Registration

As expressed in Executive Order 13175, “Consultation and Coordination with Indian Tribal Governments,” the Department is committed to honoring the unique government-to-government political relationship that exists between the Federal Government and federally recognized Indian Tribes as listed at 87 FR 4636 (January 28, 2022). The tribal consultation sessions will be held virtually on the following dates:

• On Thursday, February 17, 2022, from 2:00 p.m. to 4:00 p.m. eastern time. Please register in advance for this meeting using the following link: https://doitalent.zoomgov.com/meeting/register/vJItcuisrTktHVSk1s0jP9hyMX4SdtmkSak.

• On Tuesday, February 22, 2022, from 3:00 p.m. to 5:00 p.m. eastern time. Please register in advance for this meeting using the following link: https://doitalent.zoomgov.com/meeting/register/vJItcOqvpjItEwolbCchRrYehp7kfjVpVBo.

Please direct all requests for sign language interpreting services, closed captioning, or other accommodation needs to Joaquin Gallegos, email: joaquin_gallegos@ios.doi.gov; telephone: (202) 208-7163 or 800-877-8339 (TTY).

Bryan Newland,
Assistant Secretary—Indian Affairs.

[FR Doc. 2022-03466 Filed 2-16-22; 8:45 am]

BILLING CODE 4337-15-P